ENVIRONMENTAL PROTECTION AGENCY

[FRL-7844-2]

Middlesboro, Tannery Superfund Site; Notice of Proposed Settlement

AGENCY: Environmental Protection Agency.

ACTION: Notice of proposed settlement.

SUMMARY: Under section 122h(h)(1) of the Comprehensive Environmental Response, Compensation and Liability Act (CERCLA), the Environmental Protection Agency (EPA) has entered into an Agreement for Recovery of past response costs at the Middlesboro, Tannery Superfund Site located in Middlesboro, Bell county, Kentucky. EPA will consider public comments on the agreement until January 3, 2005. EPA may withdraw from or modify the Agreement should such comments disclose facts or consideration which indicate the Agreement is inappropriate, improper, or inadequate. Copies of the Agreement are available from: Ms. Paula V. Batchelor, U.S. Environmental Protection Agency, Region 4, (WMD-SEIMB), 61 Forsyth Street, SW., Atlanta, Georgia 30303, (404) 562-8887, Batchelor.Paula@epa.gov.

Written comments may be submitted to Ms. Batchelor at the above address within 30 days of the date of publication.

Dated: November 16, 2004.
Rosalind H. Brown,
Chief, Superfund Enforcement Information Management Branch.

[FR Doc. 04-26479 Filed 11-30-04; 8:45 am]

BILLING CODE 6560-50-P